FEDERAL COMMUNICATIONS COMMISSION

[Report No. 2475]

Petitions for Reconsideration and Clarification of Action in Rulemaking Proceedings

April 2, 2001.

Petitions for Reconsideration and Clarification have been filed in the Commission's rulemaking proceedings listed in this Public Notice and published pursuant to 47 CFR section 1.429(e). The full text of these documents are available for viewing and copying in Room CY-A257, 445 12th Street, S.W., Washington, D.C. or may be purchased from the Commission's copy contractor, ITS, Inc. (202) 857-3800. Oppositions to these petitions must be filed by April 24, 2001. See section 1.4(b)(1) of the Commission's rules (47 CFR 1.4(b)(1)). Replies to an opposition must be filed within 10 days after the time for filing oppositions have expired.

Subject: Amendment of the Rules Concerning Maritime Communications (PR Docket No. 92-257).

Number of Petitions Filed: 2.

Subject: In the Matter of Amendment of Parts of the Commission's Rules to Permit Operation of NGSO FSS Systems Co-Frequency with GSO and Terrestrial Systems in the KU Band Frequency Range (ET Docket No. 98-206).

Number of Petitions Filed: 8.

Subject: Review of the Commission's Regulations Governing Attribution of Mass Media Interests (MM Docket No. 94-150).

Review of the Commission's Regulations and Policies Affecting Investment in the Broadcast Industry (MM Docket No. 92-51).

Reexamination of the Commission's Cross-Interest Policy (MM Docket No. 87-154).

Number of Petitions Filed: 3.

Subject: Service Rules for the 746-767 and 776-794 MHz Band, and Revision to Part 27 of the Commission Rules (WT Docket No. 99-168).

Number of Petitions Filed: 2.

Federal Communications Commission.
Magalie Roman Salas,
Secretary.

[FR Doc. 01-8622 Filed 4-6-01; 8:45 am]

BILLING CODE 6712-01-M